ENVIRONMENTAL PROTECTION AGENCY

40 CFR Part 300

[EPA-HQ-SFUND-1990-0011; FRL-8249-8]

National Oil and Hazardous Substances Pollution Contingency Plan; National Priorities List

AGENCY: Environmental Protection Agency.

ACTION: Notice of partial deletion of the Ellsworth Air Force Base National Priorities List Site from the National Priorities List.

SUMMARY: The Environmental Protection Agency, Region 8 (EPA) announces the deletion of portions of the Ellsworth Air Force Base (AFB) Site located in Meade and Pennington Counties, South Dakota, from the National Priorities List (NPL). All areas originally proposed for deletion under the Notice of Intent to Partially Delete published in the Federal Register on June 28, 2006 (71 FR 36736) are being deleted. The NPL constitutes Appendix B to the National Oil and Hazardous Substances Pollution Contingency Plan, 40 CFR Part 300, which EPA promulgated pursuant to Section 105 of the Comprehensive Environmental Response, Compensation, and Liability Act (CERCLA).

EPA has determined, with the concurrence of the State of South Dakota through the Department of Environment and Natural Resources that the parcels pose no significant threat to public health, welfare or the environment and, therefore, no further response action pursuant to CERCLA is appropriate. This partial deletion pertains to surface soil, unsaturated subsurface soil, surface water, and sediments at Operable Units 2, 3, 4, 5, 6, 7, 8, 9, 10 and 12, and excludes the ground water medium at these parcels. The ground water medium at the Ellsworth AFB Site (OU-11, Basewide Ground Water), and the soil medium (surface and unsaturated subsurface soils) at OU-1, Fire Protection Training Area, will remain on the NPL and response activities will continue for those OUs. Two additional areas not associated with an operable unit, the Gateway Lake Ash Study Area and the Pride Hangar Study Area, are currently under investigation and are also not part of this partial deletion.

DATES: Effective Date: This rule is effective on December 4, 2006.

FOR FURTHER INFORMATION CONTACT: Mr. Jeff Mashburn, P.E., Remedial Project Manager (8EPR-F), U.S. EPA, Region 8, 999 18th Street, Suite 300, Denver, CO 80202-2466, Phone: (303) 312-6665.

SUPPLEMENTARY INFORMATION: Ellsworth AFB is a U.S. Air Force Air Combat Command installation located 12 miles east of Rapid City, South Dakota, and adjacent to the small community of Box Elder. The main Air Force Base covers approximately 4,858 acres within Meade and Pennington counties and includes runways, airfield operations, industrial areas, housing, and recreational facilities.

On June 28, 2006 EPA published a Notice of Intent of Partial Deletion in the Federal Register (71 FR 36736) and local newspapers which proposed to delete the surface soil, unsaturated subsurface soil, surface water and sediment media at OU-2, OU-3, OU-4, OU-5, OU-6, OU-7, OU-8, OU-9, OU-10 and OU-12 (approximately 542 acres) and the surface soil, unsaturated subsurface soil, surface water and sediment media of an additional 4,300 acres which are not associated with an operable unit and are not identified as posing a risk to human health or the environment. EPA received one comment from the State of South Dakota in support of the partial deletion. EPA agrees that the completion of the remedy requirements and ongoing monitoring programs adequately demonstrate that these parcels do not present a threat to the environment or human health and the deletion from the NPL is appropriate.

EPA identifies sites that appear to present a significant risk to public health, welfare and the environment and maintains the NPL as the list of those sites. Deletion from the NPL does not preclude further remedial action. If a significant release occurs at a facility deleted from the NPL, that facility is restored to the NPL without application of the Hazard Ranking System. Deletion of the site from the NPL does not affect responsible party liability for further remedial actions, in the unlikely event that future conditions warrant such actions.

List of Subjects in 40 CFR Part 300

Environmental protection, Air pollution control, Chemicals, Hazardous substances, Hazardous waste, Intergovernmental relations, Penalties, Reporting and recordkeeping requirements, Superfund, Water pollution control, Water supply.

Dated: November 22, 2006.
Kerrigan Clough,
Acting Regional Administrator, Region 8.

For reasons set out in the preamble, 40 CFR part 300 is amended as follows:

PART 300—[AMENDED]

1. The authority citation for part 300 continues to read as follows:

Authority: 33 U.S.C. 1321(c)(2); 42 U.S.C. 9601-9657; E.O. 12777, 56 FR 54757, 3 CFR 1991 Comp., p. 351; E.O. 12580, 52 FR 2923, 3 CFR 1987 Comp., p. 193.

Appendix B—[Amended]

2. Table 2 of Appendix B to part 300 is amended by revising the entry under South Dakota for “Ellsworth Air Force Base” to read as follows:

Appendix B to Part 300—National Priorities List

Table 2.—Federal Facilities Section
State | Site name | City/County | Notes (a)
* * * * * * *
SD | Ellsworth Air Force Base | Rapid City | P
* * * * * * *

* * * * *

P = Sites with partial deletion(s).

[FR Doc. E6-20293 Filed 12-1-06; 8:45 am]

BILLING CODE 6560-50-P